DEPARTMENT OF THE INTERIOR

Bureau of Land Management

[ID-076-4610-00]

Proposed Areas of Critical Environmental Concern

AGENCY: Bureau of Land Management, Interior.

ACTION: Notice of proposed ACEC designations.

SUMMARY: Pursuant to section 202 of the Federal Land Policy and Management Act of 1976, section 102(2)(C) of the National Environmental Policy Act of 1969, and BLM Planning Regulations (43 CFR part 1600), the Bureau of Land Management (BLM), Upper Snake River District has prepared and analyzed draft amendments to the Shoshone Field Office's land use plans. The draft amendments propose the designation of additional Areas of Critical Environmental Concern (ACECs), as well as addressing other planning issues for the Shoshone Field Office. These amendments would apply to approximately 1.44 million acres of public lands managed by the Shoshone Field Office within Elmore, Gooding, Camas, Jerome, Blaine, Lincoln, and Minidoka counties in south-central Idaho. One proposed amendment action would also amend the Jarbidge Resource Management Plan which provides direction for public lands managed by the Four Rivers Field Office, BLM; this amendment action would only apply to about 1,220 acres of public lands.

Ten ACECs were nominated for consideration in these land use plans amendments. Only seven of the nominated areas met the relevance and importance criteria that are required for potential designation. Depending on the alternative selected, up to seven additional ACECs may be designated through these amendments. Some of these ACECs may have an additional designation of “Research Natural Area” (RNA) because the ACEC values have special importance for educational and/or research purposes. Two of the ACECs (Bennett Hills ACEC and King Hill Creek ACEC/RNA) would include approximately 1,220 acres of public lands managed by the Four Rivers Field Office, Lower Snake River District, BLM. Again depending on the alternative selected, the proposed ACEC designations would amend two Shoshone Field Office land use plans (the Magic Management Framework Plan (MFP) approved in 1975 and the Bennett Hills/Timmerman Hills MFP approved in 1976) and the Jarbidge Resource Management Plan (RMP) (1987) which provides management direction for some of the public lands managed by Four Rivers Field Office.

The draft amendments and accompanying Environmental Assessment/FONSI have been published and distributed. Copies are available for review and comment (see the “Dates” and “Addresses” sections below). In compliance with 43 CFR 1610.7-2(b), this notice constitutes a notice of potential and proposed ACEC designations and commences a 60-day public comment period. More detailed information about the seven proposed ACECs is provided in the “Supplementary Information” section of this notice.

DATES: The public comment period on the proposed ACEC designations begins on August 27, 2002. Written comments on the Shoshone Land Use Plans Draft Amendments/EA must be submitted or postmarked no later than August 27, 2002. Comments, including the names and street addresses of respondents, will be available for public review at the address listed below during regular business hours (7:45 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Meetings will be held to receive public comments on the Draft Amendments/EA; the dates, times, and locations of these public meetings will be announced locally through public mailings and area media.

ADDRESSES: Copies of the Shoshone Land Use Plans Draft Amendments/EA may be obtained upon request by contacting the Bureau of Land Management, Shoshone Field Office, at P.O. Box 2-B, 400 West F Street, Shoshone, Idaho 83352, or by phone at (208) 732-7200. Written comments on the Draft Amendments/EA should be sent to Bill Baker, Field Manager, at the address listed above.

FOR FURTHER INFORMATION CONTACT: Bill Baker, Field Manager, at the address listed above or by calling (208) 732-7286. Documents related to the Shoshone Land Use Plan Amendments/EA planning process are available at the above address for public viewing during normal office hours.

SUPPLEMENTARY INFORMATION: The following 10 ACECs were nominated for consideration during the amendments planning process: Bennett Hills, Big Wood/Warm Springs, Camas Creek, Coyote Hills, Dry Creek, Fir Grove, King's Crown, King Hill Creek, McKinney Butte, and Tee-Maze. Three of these nominated ACECs (Big Wood/Warm Springs, Fir Grove, King's Crown) did not meet required relevance and importance criteria (as per 43 CFR 1610.7-2). The remaining seven nominated ACECs are proposed for designation under one or more of the three action alternatives (Alternatives 2, 3, and 4) analyzed in the Shoshone Land Use Plans Draft Amendments.

Alternative 1, the “no action” alternative, does not propose any additional ACECs for designation. (Note: Five existing ACECs totaling 18,963 acres (including a 105-acre Natural Area) would continue to be designated under existing management and all three “action” alternatives.) Alternative 2 describes seven additional ACECs for designation: Bennett Hills ACEC, Camas Creek ACEC/RNA, Coyote Hills ACEC, Dry Creek ACEC/RNA, King Hill Creek ACEC/RNA, McKinney Butte ACEC/RNA, and Tee-Maze ACEC/RNA. These ACECs would include approximately 384,015 acres managed by the Shoshone Field Office and about 1,220 acres managed by the Four Rivers Field Office, for a total of approximately 385,235 acres. Alternative 3 (the BLM's preferred alternative) and Alternative 4 describe three additional ACECs for designation: King Hill Creek ACEC/RNA, McKinney Butte ACEC/RNA, and Tee-Maze ACEC/RNA. These designations would apply to about 16,186 acres managed by the Shoshone Field Office and approximately 1,220 acres managed the Four Rivers Field Office, for a total of approximately 17,406 acres.

The paragraphs below summarize additional information about the ACEC designations for Alternatives 2, 3, and 4. Each paragraph lists (a) the ACEC's name and size, (b) the values which qualified it for potential designation, and (c) any resource use limitations which would occur within the specified ACEC if it were formally designated.

Proposed ACEC Designations—Alternative 2 Only

None of the constraints listed under this alternative would reduce current use. They would constrain only potential future actions.

Bennett Hills ACEC (cultural resource values)—Designate approximately 381,471 acres as an ACEC, including about 1,220 acres managed by the Four Rivers Field Office. Implement the following resource use limitations to protect the identified ACEC values: Limit mineral material sales and free use permits to existing sites and public lands adjacent to State Highway 75, State Highway 46, and the Bliss-Hill City Road; limit OHV use to designated and signed roads and trails.

Camas Creek ACEC/RNA (scenic canyon, pristine low elevation riparian system)—Designate approximately 420 acres as an ACEC/RNA. Implement the following resource use limitations to protect the identified ACEC values: Close the ACEC to livestock grazing, except for sheep trailing; exclude the ACEC from new land use authorizations; stipulate the ACEC no-surface-occupancy for leasable mineral exploration and development; close the ACEC to mineral material sales and free use permits; limit motorized vehicle use to designated and signed roads and trails; designate as VRM Class II (manage visual resources to maintain the existing character of the landscape).

Coyote Hills ACEC (cultural resources)—Designate approximately 49,062 acres as an ACEC. Implement the following resource use limitations to protect the identified ACEC values: Limit mineral material sales and free use permits to existing sites and public lands adjacent to the Bliss-Hill City Road and State Highway 46; limit OHV use to designated and signed roads and trails.

Dry Creek ACEC/RNA (scenic values, near-pristine riparian system)—Designate approximately 869 acres, including 3.8 stream miles of stream reaches, as an ACEC/RNA. Implement the following resource use limitations to protect the identified ACEC values: Close the ACEC to livestock grazing, mineral material sales, and free use permits; designate the ACEC as closed to OHV use; do not allow any new land use authorizations; designate as VRM Class I (manage visual resources to maintain a landscape setting that appears unaltered by humans).

Proposed ACEC Designations—Alternatives 3 and 4

None of the constraints listed under these alternatives would reduce current use. They would constrain only potential future actions.

King Hill Creek ACEC/RNA (scenic canyon; genetically pure Interior redband trout (a BLM sensitive species); near-pristine low elevation riparian area)—Designate approximately 2,880 acres as an ACEC/RNA, including 10 miles of stream reach and 1,220 acres managed by the Four Rivers Field Office. Implement the following resource use limitations to protect the identified ACEC values: Close the ACEC to livestock grazing; close aquatic habitat within the ACEC to introduction of genetic strains of trout which are not native to the King Hill Creek watershed; exclude the ACEC from new land use authorizations; close the ACEC to mineral material sales and free use permits; designate the ACEC as “closed” to OHV use; designate the ACEC as VRM Class I (manage visual resources to maintain a landscape setting that appears unaltered by humans).

McKinney Butte ACEC/RNA (cave scenery and resources; bat populations (BLM sensitive species); cave-adapted insect community; vertebrate fossils)—Designate approximately 3,764 acres as an ACEC/RNA. Implement the following resource use limitations to protect the identified ACEC values: Prepare an activity plan which identifies Limits of Acceptable Change and management actions to protect cave resources; restrict access to caves containing bats during winter hibernation periods; seasonally prohibit access to caves which provide maternity roosts; close the ACEC to mineral material sales and free use permits; limit OHV use to designated and signed roads and trails; do not allow new land use authorizations; designate 13 caves as “significant” (this administrative determination may result in additional resource use limitations as determined on a case-by-case basis).

Tee-Maze ACEC/RNA (cave scenery and resources; bat populations (BLM sensitive species); cave-adapted insect community; vertebrate fossils)—Designate approximately 10,762 acres as an ACEC/RNA. Implement the following resource use limitations to protect the identified ACEC values: Prepare an activity plan which identifies Limits of Acceptable Change and management actions to protect cave resources; restrict access to caves containing bats during winter hibernation periods; seasonally prohibit access to caves which provide maternity roosts; close the ACEC to mineral material sales and free use permits; limit OHV use to designated and signed roads and trails, except for allowing cross-country vehicle access within two existing mineral use areas; do not allow new land use authorizations; designate 12 caves as “significant” (this administrative determination may result in additional resource use limitations as determined on a case-by-case basis).

Public participation will continue throughout the remainder of the Shoshone Land Use Plans Amendments/EA planning process. Following the 60-day public review and comment period for these proposed ACEC designations, the BLM will prepare, publish, and distribute the Proposed Amendments. The proposed amendments will be subject to a 30-day public protest period and a 60-day Governor's consistency review prior to issuing the BLM's final decision.

Dated: March 18, 2002.
James E. May,
District Manager, Upper Snake River District—BLM.

[FR Doc. 02-13381 Filed 6-27-02; 8:45 am]

BILLING CODE 4310-GG-P